DEPARTMENT OF HEALTH AND HUMAN SERVICES

Centers for Disease Control and Prevention

[60Day-18-0572; Docket No. CDC-2018-0026]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Health Message Testing System (HMTS). The Health Message Testing System (HMTS), a Generic information collection, that enables programs across CDC to collect the information they require in a timely manner.

DATES: CDC must receive written comments on or before July 9, 2018.

ADDRESSES: You may submit comments, identified by Docket No. CDC-2018-0026 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Health Message Testing System (HMTS) 0920-0572—Reinstatement—Office of the Associate Director for Communication (OADC), Centers for Disease Control and Prevention (CDC).

Background and Brief Description

Before CDC disseminates a health message to the public, the message always undergoes scientific review. Even though the message is based on sound scientific content, there is no guarantee that the public will understand a health message or that the message will move people to take a recommended action. Communication theorists and researchers agree that for health messages to be as clear and influential as possible, target audience members or representatives must be involved in developing the messages, and provisional versions of the messages must be tested with members of the target audience.

Increasingly, there are circumstances when CDC must move swiftly to protect life, prevent disease, or calm public anxiety. Health message testing is even more important in these instances, because of the critical nature of the information need.

In the interest of timely health message dissemination, many programs forgo the important step of testing messages on dimensions such as clarity, salience, appeal, and persuasiveness (i.e., the ability to influence behavioral intention). Skipping this step avoids the delay involved in the standard OMB review process, but at a high potential cost. Untested messages can waste communication resources and opportunities because the messages can be perceived as unclear or irrelevant. Untested messages can also have unintended consequences, such as jeopardizing the credibility of Federal health officials.

The Health Message Testing System (HMTS), a generic information collection, enables programs across CDC to collect the information they require in a timely manner to:

• Ensure quality and prevent waste in the dissemination of health information by CDC to the public.

• Refine message concepts and to test draft materials for clarity, salience, appeal, and persuasiveness to target audiences.

• Guide the action of health communication officials who are responding to health emergencies, Congressionally-mandated campaigns with short timeframes, media-generated public concern, time-limited communication opportunities, trends, and the need to refresh materials or dissemination strategies in an ongoing campaign.

• Ensure each testing instrument will be based on specific health issues or topics.

Although it is not possible to develop one instrument for use in all instances, the same kinds of questions are asked in most message testing. This package includes generic questions and formats that can used to develop health message testing data collection instruments. These include a list of screening questions, comprised of demographic and introductory questions, along with other questions that can be used to create a mix of relevant questions for each proposed message testing data collection method. However, programs may request to use additional questions if needed.

Message testing questions will focus on issues such as comprehension, impressions, personal relevance, content and wording, efficacy of response, channels, and spokesperson/sponsor. Such information will enable message developers to enhance the effectiveness of messages for intended audiences.

Data collection methods proposed for HMTS includes intercept interviews, telephone interviews, focus groups, online surveys, and cognitive interviews. In almost all instances, data will be collected by outside organizations under contract with CDC.

For many years CDC programs have used HMTS to test and refine message concepts and test draft materials for clarity, salience, appeal, and persuasiveness to target audiences. Having this generic clearance available has enabled them to test their information and get critical health information out to the public quickly. Over the last three years, more than 30 messages have been tested using this clearance. Examples of use of the HMTS mechanism include:

(1) Domestic Readiness Initiative on Zika Virus Disease-Year 2 Core Campaign Materials. As part of the mission of CDC's Domestic Readiness Initiative on the Zika Virus Disease, CDC collected information to inform an outcome evaluation to determine the extent to which the campaign affected awareness, attitudes, and intention to follow recommended behaviors at different points during the campaign. The goal of the evaluation was to better understand awareness of campaign activities, how people perceive Zika as a health risk, and assess their uptake of recommended health behaviors, such as applying insect repellent, using condoms, and wearing long-sleeved clothing.

(2) Assessing Perception and Use of CDC Guideline for Prescribing Opioids for Chronic Pain. The purpose of this collection is to assess primary care physician's perceptions and use of communication materials and products associated with the CDC Guideline for Prescribing Opioids for Chronic Pain. Information collected can assist in the most effective use of CDC communication resources and opportunities by assessing clarity, salience, appeal, persuasiveness and effectiveness of materials promoting the dissemination and implementation of the Guideline. Specifically, CDC seeks to understand how primary care physicians perceive, need, and implement the Guideline to make prescribing decisions; how they need, obtain, and use supplementary and promotional Guideline materials developed by CDC for professional development or patient education; and what attitudinal and structural barriers may inhibit primary care provider adoption of the recommendations in the Guideline.

Over 10,000 respondents were queried and over 4,500 burden hours used during the most recent approval period. Because the availability of this ICR has been so critical to programs in disseminating their materials and information to the public in a timely manner, OADC is requesting a three year extension of this information collection. The estimated annualized Burden Hours are 2,470. There is no cost to the respondents other than their time.

Estimated Annualized Burden Hours
Type of respondents | Form name | Number of respondents | Number of responses per respondent | Average burden per response (in hours) | Total burden (in hours)
Public Health Professionals, Health Care Providers,State and Local Public Health Officials, Emergency Responders, General Public | Moderator's Guides, Eligibility Screeners, Interview Guides, Opinion Surveys, Consent Forms | 18,525 | 1 | 8/60 | 2,470
Total |  |  |  |  | 2,470

Jeffrey M. Zirger,
Acting Chief, Information Collection Review Office, Office of Scientific Integrity, Office of the Associate Director for Science, Office of the Director, Centers for Disease Control and Prevention.

[FR Doc. 2018-09918 Filed 5-9-18; 8:45 am]

BILLING CODE 4163-18-P